DEPARTMENT OF ENERGY

Federal Energy Regulatory Commission

[Project No. 1988-040]

Notice of Application for Amending Minimum Flow Requirement at Dinkey Creek and Soliciting Comments, Motions To Intervene, and Protests

April 16, 2003.

Take notice that the following hydroelectric application has been filed with the Commission and is available for public inspection:

a. Type of Application: Request to amend article 402 minimum flow requirement.

b. Project No.: 1988-040.

c. Date Filed: February 28, 2003.

d. Applicant: Pacific Gas and Electric Company.

e. Name of Project: Haas-King Project.

f. Location: North Fork Kings River near the towns of Centerville, Fresno, and Sanger, in Fresno County, California. The project occupies about 113 acres of Federal lands, a portion of which are within the Sierra National Forest.

g. Filed pursuant to: Federal Power Act, 16 U.S.C. 791(a)-825(r).

h. Applicant Contact: Mr. Steve Nevares, Pacific Gas and Electric Company, Mail Code: N11D, P.O. Box 770000, San Francisco, CA 94177.

i. FERC Contact: Any questions on this notice should be addressed to Diana Shannon, (202) 502-8887, or e-mail address: diana.shannon@ferc.gov

j. Deadline for filing motions to intervene, protests, comments: May 16, 2003.

The Commission's Rules of Practice and Procedure require all interveners filing a document with the Commission to serve a copy of that document on each person in the official service list for the project. Further, if an intervener files comments or documents with the Commission relating to the merits of an issue that may affect the responsibilities of a particular resource agency, they must also serve a copy of the documents on that resource agency.

k. Description of Proposed Action: The applicant seeks approval to change the required minimum flow release from the Dinkey Creek Siphon to a release of 10 cfs from June 1 through October 31. Article 402 of the license requires a minimum flow of 10 cfs from June 1 through November 30 and 15 cfs from December 1 through May 31 during normal and wet years, and 15 cfs year round during dry years. The licensee has consulted with the resource agencies and the U.S. Forest Service and the California Department of Fish and Game have concurred with the licensee's proposal.

l. The filing is available for review at the Commission in the Public Reference Room or may be viewed on the Commission's Web site at http://www.ferc.gov using the “Ferris” link. Enter the docket number excluding the last three digits in the docket number field to access the document. For assistance, call toll-free 1-866-208-3676 or e-mail FERCOnlineSupport@ferc.gov. For TTY, call (202) 502-8659. A copy is also available for inspection and reproduction at the address in item h.

m. Individuals desiring to be included on the Commission's mailing list should so indicate by writing to the Secretary of the Commission.

n. Comments, Protests, or Motions to Intervene-Anyone may submit comments, a protest, or a motion to intervene in accordance with the requirements of Rules and Practice and Procedure 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents-Any filings must bear in all capital letters the title “COMMENTS”, “RECOMMENDATIONS FOR TERMS AND CONDITIONS”, “PROTEST”, or “MOTION TO INTERVENE”, as applicable, and the project number (P-1988-040) on any comments or motions filed. Comments, protests, and interventions may be filed electronically via the internet in lieu of paper. See 18 CFR 385.2001(a)(1)(iii) and the instructions on the Commission's Web site under the “e-Filing” link. The Commission strongly encourages e-filings. All documents (original and eight copies) should be filed with: The Secretary, Federal Energy Regulatory Commission, 888 First Street, NE., Washington, DC 20426. A copy of any motion to intervene must also be served upon each representative of the Applicant specified in the particular application.

p. Agency Comments-Federal, state, and local agencies are invited to file comments on the described application. A copy of the application may be obtained directly from the Applicant. If an agency does not file comments within the time specified for filing comments, it will be presumed to have no comments. One copy of an agency's comments must also be sent to the Applicant's representative.

Magalie R. Salas,
Secretary.

[FR Doc. 03-9898 Filed 4-21-03; 8:45 am]

BILLING CODE 6717-01-P